DEPARTMENT OF ENERGY

Federal Energy Regulatory Commission

[Project No. 1971-079 Idaho/Oregon]

Idaho Power Company; Notice of Tribal Consultation Meetings

March 14, 2007.

The Commission will hold a series of meetings with the Indian Tribes potentially affected by the relicensing of the Hells Canyon Project, to discuss issues addressed in the draft environmental impact statement (EIS). The meetings will be held as follows:

March 29, 2007

Burns Paiute Tribe, Boise, Idaho (location and time to be announced).

March 30, 2007

Shoshone-Paiute Tribes, 10 a.m., Tribal Headquarters, Duck Valley Indian Reservation, Owyhee, Nevada.

Interested parties may attend as observers. The meetings will be transcribed by a court reporter, so that the transcript can be placed in the record of this proceeding.

Individuals interested in attending the meetings can contact Alan Mitchnick at (202) 502-6074 or alan.mitchnick@ferc.gov, for the time and location of the meetings or for more information.

Philis J. Posey,
Acting Secretary.

[FR Doc. E7-5349 Filed 3-22-07; 8:45 am]

BILLING CODE 6717-01-P